DEPARTMENT OF HEALTH AND HUMAN SERVICES

Administration for Children and Families

Proposed Information Collection Activity; Community Services Block Grant (CSBG) Model State Plan Applications (OMB No. 0970-0382)

AGENCY: Office of Community Services, Administration for Children and Families, HHS.

ACTION: Request for public comment.

SUMMARY: The Office of Community Services (OCS) requests a three-year extension of the forms Community Services Block Grant (CSBG) State Plan, CSBG Eligible Entity Master List, and the American Customer Survey Index (ACSI) (OMB #0970-0382, expiration 6/30/2021). There are minimal changes requested to the State Plan and the Master List. No changes are proposed to the ACSI.

DATES: Comments due within 60 days of publication. In compliance with the requirements of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION:

Description: Section 676 of the Community Services Block Grant (CSBG) Act requires states, including the District of Columbia and the Commonwealth of Puerto Rico, and U.S. territories applying for CSBG funds to submit an application and plan (CSBG State Plan). The CSBG State Plan must meet statutory requirements prior to CSBG grantees (states and territories) being funded with CSBG funds. Grantees have the option to submit a detailed plan annually or biannually. Grantees that submit a biannual plan must provide an abbreviated plan the following year if substantial changes to the initial plan will occur.

OCS proposes to revise the automated CSBG State Plan format for states and territories by revising questions for clarity and system compatibility. OCS does not anticipate that these revisions will cause any additional burden to CSBG grantees as they have completed the automated plan for six years. It is anticipated that the burden will continue to diminish in subsequent years due to improved automation.

In addition to the CSBG State Plan, OCS requests that all grantees revise their CSBG Eligible Entity Master List in year one to add the executive director and website for each agency. Grantees will revise the Master List as necessary in subsequent years. As the CSBG Eligible Entity Master List is already completed and states have the information about their eligible entities (or sub-grantees), the burden will be minimal to the states to provide the additional requested information.

Lastly, the request includes a survey for the sub-grantees (or CSBG-eligible entities). The survey focuses on the customer service that the CSBG sub-grantees receive from the CSBG grantees. The survey is optional, and this will be the fifth time that the CSBG sub-grantees that chose to submit will complete it. There are no revisions proposed to the survey.

Respondents: State governments, including the District of Columbia and the Commonwealth of Puerto Rico, and U.S. territories, and local level sub-grantees.

Annual Burden Estimates
Instrument | Total number of respondents | Total number of responses per respondent | Average burden hours per response | Total burden hours | Annual burden hours
CSBG State Plan Application for States | 56 | 3 | 31 | 5,208 | 1,736
CSBG Eligible Entity Master List | 56 | 3 | 2 | 336 | 112
CSBG ACSI Survey of Eligible Entities | 1007 | 1 | .33 | 332 | 111

Estimated Total Annual Burden Hours: 1,848 hours for CSBG grantees; 111 for CSBG sub-grantees.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Sec. 676, Pub. L. 105-285, 112 Stat. 2735 (42 U.S.C. 9908).

Mary B. Jones,
ACF/OPRE Certifying Officer.

[FR Doc. 2021-08604 Filed 4-23-21; 8:45 am]

BILLING CODE 4184-27-P